DEPARTMENT OF HEALTH AND HUMAN SERVICES

National Institutes of Health

National Eye Institute; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Eye Institute Special Emphasis Panel; Secondary Data Analysis and Conference Grant Applications.

Date: March 6, 2024.

Time: 9:30 a.m. to 3:30 p.m.

Agenda: To review and evaluate grant applications.

Place: National Eye Institute, 6700B Rockledge Drive, Bethesda, MD 20817.

Contact Person: Jeanette M. Hosseini, Ph.D., Scientific Review Officer, Division of Extramural Activities, National Eye Institute, 6700 B Rockledge Drive, Bethesda, MD 20892, (301) 451-2020 jeanetteh@mail.nih.gov.

Name of Committee: National Eye Institute Special Emphasis Panel; Individual Training Grant Applications (Ks).

Date: March 27, 2024.

Time: 12:00 p.m. to 4:30 p.m.

Agenda: To review and evaluate grant applications.

Place: National Institute of Health, NEI, 6700 B Rockledge Dr., Rockville, MD 20817.

Contact Person: Jennifer C. Schiltz, Ph.D., Scientific Review Officer, Scientific Review Branch, Division of Extramural Activities, National Eye Institute, Bethesda, MD 20817, (240) 276-5864 jennifer.schiltz@nih.gov.

(Catalogue of Federal Domestic Assistance Program No. 93.867, Vision Research, National Institutes of Health, HHS)

Dated: January 29, 2024.
Lauren A. Fleck,
Program Analyst, Office of Federal Advisory Committee Policy.

[FR Doc. 2024-02048 Filed 2-1-24; 8:45 am]

BILLING CODE 4140-01-P